DEPARTMENT OF THE INTERIOR

Bureau of Land Management

[MT-060-00-1220-XQ-003E]

Central Montana Resource Advisory Council Meeting

AGENCY: Bureau of Land Management, Lewistown Field Office.

ACTION: Notice of Meeting.

SUMMARY: The Bureau of Land Management's Central Montana Resource Advisory Council will meet May 17 and 18, 2000, in Malta, Montana.

The May 17 meeting will begin at 1 p.m. with a 30-minute public comment period. Then the council will move into house keeping duties; introductions; election of officers for the coming year; a discussion of the Secretary's response to the council's recommendations for future management in the Missouri River Breaks; an update on the Missouri River subgroup; and discussions about the Land and Water Conservation Fund, the drought policy, and the Zortman/Landusky project. The meeting will adjourn at 5:30 p.m.

The May 18 meeting will begin at 7:45 a.m. The council will discuss the five year budget requests for the Upper Missouri National Wild and Scenic River; the withdrawal of Bureau of Reclamation lands; hear an update for the off-highway vehicle project; discuss direction for the Missouri River subgroup; and discuss topics at large. The council will break for lunch at 11:30 a.m.; take care of administrative duties after lunch; and will adjourn at 2 p.m.

DATES: May 17 and 18, 2000.

LOCATION: The meetings will be held in the basement meeting room of the GN Motel in Malta, Montana.

FOR FURTHER INFORMATION CONTACT: Lewistown Field Manager, Lewistown Field Office, Bureau of Land Management, P.O. Box 1160, Airport Road, Lewistown, MT 59457.

SUPPLEMENTARY INFORMATION: Resource Advisory Council meetings are open to the public and there will be a public comment period as detailed above.

Dated: April 13, 2000.
David L. Mari,
Field Manager.

[FR Doc. 00-10267 Filed 4-24-00; 8:45 am]

BILLING CODE 4310-$$-P